DEPARTMENT OF COMMERCE

National Oceanic and Atmospheric Administration

[RTID 0648-XB471]

South Atlantic Fishery Management Council; Public Meeting

AGENCY: National Marine Fisheries Service (NMFS), National Oceanic and Atmospheric Administration (NOAA), Commerce.

ACTION: Notice of a public meeting.

SUMMARY: The South Atlantic Fishery Management Council (Council) will hold a webinar meeting of its Executive Committee (partially closed session).

DATES: The Executive Committee meeting will be held from 1 p.m. until 2 p.m. on Wednesday, November 10, 2021.

ADDRESSES: The meeting will be held via webinar. Webinar registration is required. See SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including the webinar link, agenda, and briefing book materials will be posted on the Council's website at: http://safmc.net/safmc-meetings/council-meetings/. Written comments may be directed to John Carmichael, Executive Director, South Atlantic Fishery Management Council, 4055 Faber Place Drive, Suite 201, North Charleston, SC 29405 or electronically via the Council's website at http://safmc.net/safmc-meetings/council-meetings/. After Friday, November 3, 2021, comments must be submitted through the Council's online form on the website.

Agenda items include:

1. Council activity schedules for 2022

2. Council budget for 2022 (partially closed session)

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: October 15, 2021.
Tracey L. Thompson,
Acting Deputy Director, Office of Sustainable Fisheries, National Marine Fisheries Service.

[FR Doc. 2021-22861 Filed 10-19-21; 8:45 am]

BILLING CODE 3510-22-P